DEPARTMENT OF ENERGY

Federal Energy Regulatory Commission

[Docket No. ER02-1423-004, et al.]

Midwest Independent Transmission System Operator, Inc., et al.; Electric Rate and Corporate Regulation Filings

August 13, 2002.

The following filings have been made with the Commission. The filings are listed in ascending order within each docket classification.

1. Midwest Independent Transmission System Operator, Inc.

[Docket Nos. ER02-1423-004 and ER02-1842-002]

Take notice that on August 5, 2002, the Midwest Independent Transmission System Operator, Inc. (the Midwest ISO), submitted certain revisions to the Joint Open Access Transmission Tariff of the Midwest Independent Transmission System Operator, Inc. for the Transmission System (Michigan) in compliance with the Federal Energy Regulatory Commission's (Commission) July 5, 2002 order in these proceedings. The Midwest ISO requests that these changes become effective May 1, 2002.

A copy of the filing was served upon the parties on the official Commission service lists established in these proceeding, on all affected state commissions, and on other affected parties.

Comment Date: August 26, 2002.

2. Conoco Gas & Power Marketing

[Docket No. ER02-1890-000]

Take notice that on July 31, 2002, Conoco Gas & Power Marketing, a Division of Conoco, Inc., tendered for filing a Notice of Withdrawal. This entity is no longer involved in power transactions.

Comment Date: August 23, 2002.

3. New York Independent System Operator, Inc.

[Docket No. ER02-1961-001]

Take notice that on August 5, 2002, the New York Independent System Operator, Inc. (NYISO) filed in this docket a response to the Commission's July 5, 2002 deficiency letter. The NYISO has requested an effective date of June 1, 2002 for the filing.

The NYISO has served a copy of this filing upon all parties that have executed service agreements under the NYISO's OATT and Services Tariff and on the electric utility regulatory agencies of New York, New Jersey and Pennsylvania, including, as directed in the Deficiency Letter, a copy of this filing to all parties who have either requested or been granted intervention in these proceedings.

Comment Date: August 26, 2002.

4. Puget Sound Energy, Inc.

[Docket No. ER02-2012-001]

Take notice that on August 7, 2002, Puget Sound Energy, Inc. (Puget) submitted for filing, a revised Rate Schedule, a First Revised Service Agreement No. 1, which includes the Amendment No. 1 to the Agreement for the Installation of Electrical Facilities—South SeaTac filed on June 4, 2002. This First Revised Service Agreement No. 1 is effective May 17, 2002.

Comment Date: August 27, 2002.

5. Southaven Power, LLC

[Docket No. ER02-2056-000]

Take notice that on August 6, 2002, Southaven Power, LLC submitted a Notice of Withdrawal of the Request for Authorization to Amend Market-Based Rate Tariff filed June 10, 2002 in the above referenced docket.

Comment Date: August 26, 2002.

6. Green Country Energy, LLC

[Docket No. ER02-2057-000]

Take notice that on August 6, 2002, Green Country Energy, LLC, submitted a Notice of Withdrawal of the Request for Authorization to Amend Market-Based Rate Tariff filed in the above referenced docket on June 10, 2002.

Comment Date: August 26, 2002.

7. Cogentrix Energy Power Marketing, Inc.

[Docket No. ER02-2058-000]

Take notice that on August 6, 2002, Cogentrix Energy Power Marketing, Inc., submitted a Notice of Withdrawal of the Request for Authorization to Amend Market-Based Rate Tariff in the above referenced docket on June 10, 2002.

Comment Date: August 26, 2002.

8. Rathdrum Power, LLC

[Docket No. ER02-2059-000]

Take notice that on August 6, 2002, Rathdrum Power, LLC, submitted a Notice of Withdrawal of the Request for Authorization to Amend Market-Based Rate Tariff in the above referenced docket on June 10, 2002.

Comment Date: August 26, 2002.

9. Jackson County Power, LLC

[Docket No. ER02-2060-000]

Take notice that on August 6, 2002, Jackson County Power, LLC, submitted a Notice of Withdrawal of the Requests for Authorization to Amend Market-Based Rate Tariff in the above referenced docket on June 10, 2002.

Comment Date: August 26, 2002.

10. Caledonia Generating, LLC

[Docket No. ER02-2061-000]

Take notice that on August 6, 2002, Caledonia Generating, LLC, submitted a Notice of Withdrawal of the Request for Authorization to Amend Market-Based Rate Tariff filed in the above referenced docket on June 10, 2002.

Comment Date: August 26, 2002.

11. Quachita Power, LLC

[Docket No. ER02-2062-000]

Take notice that on August 6, 2002, Quachita Power, LLC, submitted a Notice of Withdrawal of the Request for Authorization to Amend Market-Based Rate Tariff filed in the above referenced docket on June 10, 2002.

Comment Date: August 26, 2002.

12. Cogentrix Lawrence County, LLC

[Docket No. ER02-2063-000]

Take notice that on August 6, 2002, Cogentrix Lawrence County, LLC, submitted a Notice of Withdrawal of the Request for Authorization to Amend Market-Based Rate Tariff in the above referenced docket on June 10, 2002.

Comment Date: August 26, 2002.

13. Southwestern Power Marketers, Inc.

[Docket No. ER02-2438-000]

Take notice that on August 6, 2002, Southwestern Power Marketers, Inc., has formally ceased operations. Please withdraw the market based tariff in Docket No. ER97-2529-000.

Comment Date: August 27, 2002.

14. Enerserve, L.C.

[Docket No. ER02-2439-000]

Take notice that on August 8, 2002, Enerserve, L.C. was closed. Enerserve, L.C. is requesting termination of the certificate authorizing to engage in wholesale electric power and energy transaction as a marketer.

Comment Date: August 29, 2002.

15. Alcoa Power Generating, Inc.

[Docket No. ER02-2440-000]

Take notice that on August 8, 2002, pursuant to Section 205 of the Federal Power Act and Section 35.15(a), 18 CFR 35.15(a) of the Commission's Regulations, Alcoa Power Generating, Inc. (APGI) filed with the Federal Energy Regulatory Commission a Notice of Termination of its Long-Term Agreement by and between APGI and Aquila Merchant Services, Inc., successor to Aquila Energy Marketing Corporation. Pursuant to Section 35.15(a) of the Commission's Regulations, APGI requests an effective date for this termination of August 9, 2002.

Comment Date: August 29, 2002.

16. Tucson Electric Power Company

[Docket No. ER02-2441-000]

Take notice that on August 8, 2002, Tucson Electric Power Company tendered for filing one (1) Umbrella Service Agreement (for short-term firm service) and one (1) Service Agreement (for non-firm service) pursuant to Part II of Tucson's Open Access Transmission Tariff, which was filed in Docket No. ER01-208-000.

The details of the service agreements are Umbrella Agreement for Short-Term Firm Point-to-Point Transmission Service dated as of August 2, 2002 by and between Tucson Electric Power Company and UBS AG, London Branch—FERC Electric Tariff Vol. No. 2, Service Agreement No. 200. No service has commenced at this time.

Form of Service Agreement for Non-Firm Point-to Point Transmission Service dated as of August 2, 2002 by and between Tucson Electric Power Company and UBS AG, London Branch—FERC Electric Tariff Vol. No. 2, Service Agreement No. 201. No service has commenced at this time.

Comment Date: August 29, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-21266 Filed 8-20-02; 8:45 am]

BILLING CODE 6717-01-P